DEPARTMENT OF THE INTERIOR

Bureau of Land Management

[ES-930-08-1310-00-241A; MSES 50961]

Mississippi: Proposed Reinstatement of Terminated Oil and Gas Lease

Under the provisions of Public Law 97-451, a petition for reinstatement of oil and gas lease MSES 50961, Scott County, Mississippi, was timely filed and accompanied by all required rentals and royalties from the date of termination.

No valid lease has been issued affecting the lands. The lessee has agreed to new lease terms for rentals and royalties at rates of $10 per acre and 16⅔ percent. Payment of $500 in administrative fees and a $155 publication fee has been made.

The Bureau of Land Management is proposing to reinstate the lease effective April 1, 2002, subject to the original terms and conditions of the lease and the increased rental and royalty rates cited above. This is in accordance with section 31 (d) and (e) of the Mineral Leasing Act of 1920, as amended (30 U.S.C. 188 (d) and (e)).

FOR FURTHER INFORMATION CONTACT: Gina Goodwin at (703) 440-1534.

Dated: October 9, 2002.
Walter Rewinski,
Acting State Director.

[FR Doc. 02-28760 Filed 11-12-02; 8:45 am]

BILLING CODE 4310-AG-P